DEPARTMENT OF LABOR

Employment and Training Administration

[TA-W-65,641]

United Airlines, Inc.; United Services Maintenance Center; San Francisco, CA; Notice of Termination of Investigation

Pursuant to Section 221 of the Trade Act of 1974, as amended, an investigation was initiated on March 20, 2009, in response to a worker petition filed by the International Brotherhood of Teamsters, Local 986 on behalf of workers at United Airlines, Inc., United Services Maintenance Center, San Francisco, California.

The petitioner has requested that the petition be withdrawn. Consequently, the investigation has been terminated.

Signed at Washington, DC, this 3rd day of April 2009.
Linda G. Poole,
Certifying Officer, Division of Trade Adjustment Assistance.

[FR Doc. E9-10589 Filed 5-6-09; 8:45 am]

BILLING CODE 4510-FN-P